DEPARTMENT OF EDUCATION

Arbitration Panel Decision Under the Randolph-Sheppard Act

AGENCY: Department of Education.

ACTION: Notice of arbitration panel decision under the Randolph-Sheppard Act.

SUMMARY: The Department gives notice that on October 10, 2003, an arbitration panel rendered a decision in the matter of Faye Autry v. Kentucky Department for the Blind (Docket No. R-S/00-5). This panel was convened by the U.S. Department of Education, under 20 U.S.C. 107d-1(a), after the Department received a complaint filed by the petitioner, Faye Autry.

FOR FURTHER INFORMATION CONTACT: You may obtain a copy of the full text of the arbitration panel decision from Suzette E. Haynes, U.S. Department of Education, 400 Maryland Avenue, SW., room 5022, Potomac Center Plaza, Washington, DC 20202-2800. Telephone: (202) 245-7374. If you use a telecommunications device for the deaf (TDD), you may call the Federal Relay Service (FRS) at 1-800-877-8339.

Individuals with disabilities may obtain this document in an alternative format (e.g., Braille, large print, audiotape, or computer diskette) on request to the contact person listed in the preceding paragraph.

SUPPLEMENTARY INFORMATION: Under section 6(c) of the Randolph-Sheppard Act (the Act), 20 U.S.C. 107d-2(c), the Secretary publishes in the Federal Register a synopsis of each arbitration panel decision affecting the administration of vending facilities on Federal and other property.

Background

This dispute concerns the alleged improper denial of Ms. Faye Autry's bid request to transfer to another facility under the Kentucky Department for the Blind's transfer and promotion policies, in violation of the Act (20 U.S.C. 107 et seq.), the implementing regulations in 34 CFR part 395, and State rules and regulations.

A summary of the facts is as follows: In January 1999 the Kentucky Department for the Blind, the State licensing agency (SLA), notified vendors of an opening to provide food services at the Fort Knox Military Base in Fort Knox, Kentucky.

On February 26, 1999, the SLA was awarded the food service contract. Prior to receiving the food service contract, the SLA's Upward Mobility Selection Committee (the Committee) interviewed and rated each of the six finalists including Ms. Autry (complainant). The SLA used criteria established by the SLA's rules and regulations governing the transfer and promotion of vendors in the Kentucky Business Enterprise Program (BEP).

On February 9, 1999, the Committee discussed the applicants and made its recommendation to the SLA's Director of BEP. The Director, who participated in the February 9th discussions, concurred with the Committee's recommendation, awarding the vending facility management position at Fort Knox to a vendor other than Ms. Autry.

Following the Committee's decision, complainant requested a State fair hearing based upon her dissatisfaction with the Committee's choice of another vendor. At complainant's request, a fair hearing on this matter was held on May 12, 13, and 27, June 4 and 25, and July 15, 1999. In a decision dated February 14, 2000, the hearing officer ruled that Ms. Autry failed to demonstrate that the Committee and the SLA improperly applied State rules and regulations governing transfer and promotion in this case.

On March 20, 2000, the SLA informed complainant it had adopted the hearing officer's decision as final agency action. Complainant sought review by a Federal arbitration panel of that decision.

Arbitration Panel Decision

The issue heard by the panel was whether the Kentucky Department for the Blind violated the Act, 20 U.S.C. 107 et seq., the implementing regulations in 34 CFR part 395, and its own rules and regulations in allegedly improperly denying complainant's bid on the vending facility at the Fort Knox Military Base.

After reviewing all of the records and hearing testimony of witnesses, the majority of the panel ruled that the SLA acted properly and in full and fair compliance with the Act, implementing regulations, and State rules and regulations. Therefore, the panel denied complainant's grievance.

The views and opinions expressed by the panel do not necessarily represent the views and opinions of the U.S. Department of Education.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: March 8, 2005.
John H. Hager,
Assistant Secretary for Special Education and Rehabilitative Services.

[FR Doc. 05-4941 Filed 3-11-05; 8:45 am]

BILLING CODE 4000-01-P